ENVIRONMENTAL PROTECTION AGENCY

[FRL-9741-9]

Notice of Intent: Designation of an Ocean Dredged Material Disposal Site (ODMDS) in Eastern Long Island Sound; Connecticut, New York, and Rhode Island

AGENCY: Environmental Protection Agency (EPA).

ACTION: Notice of Intent to prepare a Supplemental Environmental Impact Statement (SEIS) to evaluate the potential designation of one or more Ocean Dredged Material Disposal Sites (ODMDS) to serve the eastern Long Island Sound region (Connecticut, New York, and Rhode Island).

SUMMARY: EPA is authorized to designate ODMDS under section 102(c) of the Marine Protection, Research and Sanctuaries Act (MPRSA). EPA is preparing the SEIS in accordance with the Agency's Statement of Policy for Voluntary Preparation of National Environmental Policy Act documents for all ocean disposal site designations. The SEIS will update and build on the analyses that were conducted for the 2005 Long Island Sound Environmental Impact Statement that supported the designation of the Central and Western Long Island Sound disposal sites. The following federal and state agencies have expressed interest in serving as cooperating agencies: U.S. Army Corps of Engineers (USACE), New England and New York Districts; National Oceanic and Atmospheric Administration, National Marine Fisheries Service; Connecticut Department of Energy and Environmental Protection; Connecticut Department of Transportation; New York Department of State; Rhode Island Department of Environmental Management; and Rhode Island Coastal Resources Management Council.

SUPPLEMENTARY INFORMATION: The primary statutes governing the open-water disposal of dredged material in the United States are the MPRSA and the Clean Water Act (CWA). The waters of Long Island Sound are landward of the baseline from which the territorial sea of the United States is measured. As with other waters lying landward of the baseline, all dredged material disposal activities in Long Island Sound, whether from federal or non-federal projects of any size, are subject to the requirements of section 404 of the CWA. The MPRSA generally only applies to dredged material disposal in waters seaward of the baseline and would not apply to Long Island Sound but for the 1980 amendment that added section 106(f) to the statute. This provision requires that the disposal of dredged material in Long Island Sound from federal projects (projects carried out under the USACE civil works program or by other federal agencies) and non-federal projects generating more than 25,000 cubic yards of material must comply with the requirements of both CWA section 404 and the MPRSA. This applies to both the designation of specific disposal sites and the assessment of the suitability of specific dredged material for disposal. Disposal from non-federal projects involving 25,000 cubic yards or less of dredged material, however, is subject only to CWA section 404.

Need for Action: Dredging is essential for maintaining safe navigation in ports and harbors in the eastern Long Island Sound region. Over the past approximately 30 years, dredged material from eastern Long Island Sound has been disposed of primarily at the New London and Cornfield Shoals disposal sites. These two sites, both of which were selected by the USACE for short-term use, expire on December 16, 2016.

Therefore, EPA has decided to prepare an SEIS to evaluate the two current sites used in eastern Long Island Sound as well as other sites for, and means of, disposal and management, including the no action alternative. The SEIS will support the EPA's final decision on whether one or more dredged material disposal sites will be designated under the MPRSA. The SEIS will include analysis applying the five general and eleven specific site selection criteria for designating ocean disposal sites presented in 40 CFR 228.5 and 228.6, respectively. Designation of a site does not by itself authorize or result in disposal of any particular material; it only serves to make the designated site a disposal option available for consideration in the alternatives analysis for each individual dredging project in the area.

Alternatives: In evaluating the alternatives, the SEIS will identify and evaluate locations within the eastern Long Island Sound study area using the aforementioned criteria to determine the sites that are best suited to receive dredged material for open-water disposal. At a minimum, the SEIS will consider alternatives including:

• No-action (i.e., no designation of any sites);

• Designation of one or both of the currently active USACE-selected sites;

• Designation of alternative open-water sites identified within the study area that may offer environmental advantages to the existing sites; and

• Identification of other disposal and/or management options, including beneficial uses.

Scoping: EPA is requesting written comments from federal, state, and local governments, industry, non-governmental organizations, and the general public on the need for action, the range of alternatives considered, and the potential impacts of the alternatives. Scoping comments will be accepted for 45 days from the date of this notice. Public scoping meetings are scheduled at two locations on the following dates: November 14, 2012, 4-7 p.m. at the University of Connecticut, Avery Point auditorium in Groton, CT (http://www.averypoint.uconn.edu/about/directions.html) and November 15, 2012, 3-6 p.m. at the Port Jefferson Village Center in Port Jefferson, NY (http://www.portjeff.com/village-map/). Registration for both meetings will begin a half-hour before the meeting (3:30 p.m. on November 14 and 2:30 p.m. on November 15).

FOR FURTHER INFORMATION CONTACT: For further information and to be placed on the project information distribution list, please contact: Ms. Jean Brochi, U.S. EPA, Region 1, 5 Post Office Square, Suite 100, OEP06-1, Boston, MA 02109-3912, (617) 918-1536, ELIS@epa.gov. Please contact Ms. Brochi should you have special needs (sign language interpreters, access needs) at the above address or our TDY#, (617) 918-1189.

Estimated Date of the Draft SEIS Release: September 30, 2014.

Dated: October 4, 2012.
H. Curtis Spalding,
Regional Administrator, EPA New England.

[FR Doc. 2012-25420 Filed 10-15-12; 8:45 am]

BILLING CODE 6560-50-P